ENVIRONMENTAL PROTECTION AGENCY

40 CFR Part 147

[EPA-HQ-OW-2011-0520; FRL-9924-91-OW]

State of Tennessee Underground Injection Control (UIC) Program; Primacy Approval

AGENCY: Environmental Protection Agency (EPA).

ACTION: Proposed rule.

SUMMARY: The U.S. Environmental Protection Agency (EPA) proposes to approve the State of Tennessee Underground Injection Control (UIC) Program for primacy to implement and enforce state regulations for all UIC injection wells located within the state, except for Class VI wells and all wells on Indian lands, as required by rule under the Safe Drinking Water Act (SDWA). The Agency determined that the state's program is consistent with the provisions of the SDWA and is as stringent as all applicable federal regulations to prevent underground injection activities that endanger underground sources of drinking water. EPA requests public comment on this proposed rule and supporting documentation. In the “Rules and Regulations” section of this Federal Register, the Agency published EPA's approval of the state's program as a direct final rule without a prior proposed rule. If the Agency receives no adverse comment, EPA will not take further action on this proposed rule.

DATES: Written comments must be received by May 6, 2015.

ADDRESSES: Submit your comments, identified by Docket ID No. EPA-HQ-OW-2011-0520, by one of the following methods, by mail to Water Docket, State of Tennessee, Underground Injection Control (UIC) Primacy, U.S. Environmental Protection Agency, Mailcode: 2822T, 1200 Pennsylvania Ave. NW., Washington, DC 20460. Comments may also be submitted electronically or through hand delivery/courier by following the detailed instructions in the ADDRESSES section of the direct final rule located in the rules section of this Federal Register.

FOR FURTHER INFORMATION CONTACT: Marilyn Ginsberg, Drinking Water Protection Division, Office of Ground Water and Drinking Water (4606M), U.S. Environmental Protection Agency, 1200 Pennsylvania Ave. NW., Washington, DC 20460; telephone number: (202) 564-3881; fax number: (202) 564-3754; email address: ginsberg.marilyn@epa.gov or Nancy H. Marsh, Safe Drinking Water Branch, U.S. Environmental Protection Agency, Region 4, 61 Forsyth Street SW., Atlanta, Georgia 30303; telephone number (404) 562-9450; fax number: (404) 562-9439; email address: marsh.nancy@epa.gov.

SUPPLEMENTARY INFORMATION:

Why is EPA issuing this proposed rule?

EPA proposes to approve the State of Tennessee's UIC Program primacy application for Class I, II, III, IV, and V injection wells located within the state (except all wells on Indian lands), as required by rule under the SDWA, to prevent underground injection activities that endanger underground sources of drinking water. Accordingly, the Agency proposes to codify the state's program in the Code of Federal Regulations (CFR) at 40 CFR part 147. EPA will continue to administer the UIC Program for Class VI wells and wells on Indian lands, if any such lands exist in the state in the future. The Agency has published a direct final rule in the “Rules and Regulations” section of today's Federal Register, approving the state's program because EPA views these actions as noncontroversial and anticipates no adverse comment. The Agency has provided reasons for the approval and additional supplementary information in the preamble to the direct final rule. If EPA receives no adverse comment, the Agency will not take further action on this proposed rule. If EPA receives adverse comment, the Agency will withdraw the direct final rule and it will not take effect. The Agency would then address all public comments in any subsequent final rule based on this proposed rule. The Agency does not intend to institute a second comment period on this action. Any parties interested in commenting must do so at this time. For further information, please contact the persons listed in the FOR FURTHER INFORMATION CONTACT section of this document.

Dated: March 30, 2015.
Gina McCarthy,
Administrator.

[FR Doc. 2015-07745 Filed 4-3-15; 8:45 am]

BILLING CODE 6560-50-P